DEPARTMENT OF ENERGY

Federal Energy Regulatory Commission

Combined Notice of Filings #1

November 4, 2005.

Take notice that the Commission received the following electric rate filings.

Docket Numbers: ER02-2227-005; ER02-2229-004; ER03-24-004; ER03-36-005.

Applicants: Creed Energy Center, LLC; Goose Haven Energy Center, LLC; Los Esteros Critical Energy Facility, LLC; Calpine Northbrook Energy Marketing, LLC; Joint Triennial Updated Market Power Analysis.

Description: Creed Energy Center, LLC submits an amendment to their joint updated power analysis filed on August 30, 2005 which includes substitute market-based rate schedule sheet required by Order Nos. 652 & 652-A..

Filed Date: October 31, 2005.

Accession Number: 20051103-0097.

Comment Date: 5 p.m. Eastern Time on Monday, November 21, 2005.

Docket Numbers: ER02-2536-002.

Applicants: Bank of America, N.A.

Description: Bank of America, NA submits triennial updated market power analysis & revised market-based rate tariff.

Filed Date: October 31, 2005.

Accession Number: 20051103-0099.

Comment Date: 5 p.m. Eastern Time on Monday, November 21, 2005.

Docket Numbers: ER05-1097-003.

Applicants: BJ Energy LLC.

Description: BJ Energy, LLC informs FERC of a non-material departure from the market characteristics relied upon by FERC in its August 11, 2005 Order.

Filed Date: October 31, 2005.

Accession Number: 20051103-0100.

Comment Date: 5 p.m. Eastern Time on Monday, November 21, 2005.

Docket Numbers: ER06-90-000; ER06-91-000; ER06-92-000; ER06-93-000.

Applicants: California Independent System Operator Corporation.

Description: CalPeak Power LLC, on behalf of CalPeak Entitites, submits modifications of certain schedules contained in the Reliability Must-Run Service Agreements with California Independent System Operator Corp.

Filed Date: October 31, 2005.

Accession Number: 20051102-0185.

Comment Date: 5 p.m. Eastern Time on Monday, November 21, 2005.

Docket Numbers: ER06-98-000.

Applicants: Gilroy Energy Center, LLC.

Description: Gilroy Energy Center, LLC submits its revised rate schedule sheets for the Reliability Must-Run Service Agreement with the California Independent System Operator Corp.

Filed Date: October 31, 2005.

Accession Number: 20051102-0284.

Comment Date: 5 p.m. Eastern Time on Monday, November 21, 2005.

Docket Numbers: ER06-99-000.

Applicants: Pacific Gas and Electric Company.

Description: Pacific Gas and Electric Co submits First Revised Rate Schedule FERC No. 207 et al for the Reliability Must-Run Service Agreements with California Independent System Operator Corp.

Filed Date: October 31, 2005.

Accession Number: 20051103-0066.

Comment Date: 5 p.m. Eastern Time on Monday, November 21, 2005.

Docket Numbers: ER06-101-000.

Applicants: Creed Energy Center, LLC.

Description: Creed Energy Center LLC submits the revised rate schedule sheets for the Reliability Must-Run Service Agreement with the California Independent System Operator Corp.

Filed Date: October 31, 2005.

Accession Number: 20051103-0043.

Comment Date: 5 p.m. Eastern Time on Monday, November 21, 2005.

Docket Numbers: ER06-105-000.

Applicants: Avista Corporation.

Description: Avista Corp submits an Exchange Agreement (FERC Rate Schedule No. 184) conformed to comply with Rule 614 and supplemented by a Letter Agreement, dated 10/28/05.

Filed Date: October 31, 2005.

Accession Number: 20051103-0087.

Comment Date: 5 p.m. Eastern Time on Monday, November 21, 2005.

Docket Numbers: ER06-106-000.

Applicants: KGEN Hinds LLC.

Description: KGen Hinds LLC submits under protest a Conditional Notice of Cancellation of its Rate Schedule FERC No. 1.

Filed Date: October 31, 2005.

Accession Number: 20051103-0088.

Comment Date: 5 p.m. Eastern Time on Monday, November 21, 2005.

Docket Numbers: ER06-107-000.

Applicants: Powerex Corp.

Description: Powerex Corp submits Notice of Cancellation of two Certificates of Concurrence filed and accepted by FERC in certain proceedings pertaining to Puget Sound Energy, Inc.

Filed Date: October 31, 2005.

Accession Number: 20051103-0089.

Comment Date: 5 p.m. Eastern Time on Monday, November 21, 2005.

Docket Numbers: ER06-108-000.

Applicants: San Diego Gas & Electric Company.

Description: San Diego Gas and Electric Co submits revisions to Schedule D of its Reliability Must-Run Service Agreement with the California Independent System Operator Corp.

Filed Date: October 31, 2005.

Accession Number: 20051103-0090.

Comment Date: 5 p.m. Eastern Time on Monday, November 21, 2005.

Docket Numbers: ER06-114-000.

Applicants: California Power Exchange Corporation.

Description: California Power Exchange Corp submits proposed amendments to its FERC Electric Rate Schedule No. 1 in order to recover projected expenses for the period of January 1, 2006 thru June 30, 2006.

Filed Date: October 31, 2005.

Accession Number: 20051103-0033.

Comment Date: 5 p.m. Eastern Time on Monday, November 21, 2005.

Docket Numbers: ER06-115-000.

Applicants: Duke Energy South Bay, LLC.

Description: Duke Energy South Bay, LLC submits revisions to certain Reliability Must-Run Agreement with California Independent System Operator Corp.

Filed Date: October 31, 2005.

Accession Number: 20051103-0032.

Comment Date: 5 p.m. Eastern Time on Monday, November 21, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-6180 Filed 11-9-05; 8:45 am]

BILLING CODE 6717-01-P